DEPARTMENT OF AGRICULTURE

Office of the Secretary

Pacific Northwest National Scenic Trail Advisory Council

AGENCY: Forest Service.

ACTION: Notice of intent to establish an advisory council and call for nominations.

SUMMARY: The Secretary of Agriculture intends to establish the Pacific Northwest National Scenic Trail Advisory Council (Council) pursuant to Section 5(d) of the National Trails System Act (Act) (Pub. L. 90-543), as amended through (Pub. L. 111-11) (16 U.S.C. 1241 to 1251). The Council is being established to provide advice and recommendations on matters relating to the Pacific Northwest National Scenic Trail (Pacific Northwest Trail) including, but not limited to, the development and implementation of a comprehensive plan, selection of rights-of-way, standards for the erection and maintenance of markers along the Trail, and interpretation of the Trail. Therefore, the Secretary of Agriculture is seeking nominations for individuals to be considered as Council members. The public is invited to submit nominations for membership.

DATES: Written nominations must be received by June 16, 2014. Nominations must contain a completed application packet that includes the nominee's name, resume, and completed form AD-755 (Advisory Committee Membership Background Information). The form AD-755 may be obtained from the Forest Service individual listed in the FOR FURTHER INFORMATION CONTACT section or from the following Web site: http://www.ocio.usda.gov/forms/doc/AD-755_Master_2012_508%20Ver.pdf. The package must be sent to the address below.

ADDRESSES: Send nominations and applications to Matt McGrath, USDA Forest Service, Mt. Baker-Snoqualmie National Forest, 2930 Wetmore Avenue, Suite 3A, Everett, WA 98201- 4044; telephone (425) 783-6199; email: mtmcgrath@fs.fed.us.

FOR FURTHER INFORMATION CONTACT: Matt McGrath, USDA Forest Service, Mt. Baker-Snoqualmie National Forest, 2930 Wetmore Avenue, Suite 3A, Everett, WA 98201-4044; telephone (425)783-6199; email: mtmcgrath@fs.fed.us. Individuals who use telecommunications devices for the deaf (TDD) may call the Federal Information Relay Service (FIRS) at 1-800-877-8339 between 8:00 a.m. and 8:00 p.m., Eastern Standard Time, Monday through Friday.

SUPPLEMENTARY INFORMATION:

Background

In accordance with Section 5(d) of the National Trails System Act (Act) (Pub. L. 90-543, as amended through Pub. L. 111-11) (16 U.S.C. 1241 to 1251), and the Federal Advisory Committee Act (FACA), as amended (5 U.S.C. App.2), the Secretary of Agriculture intends to establish the Pacific Northwest National Scenic Trail Advisory Council. The Council will be a statutory advisory council. The Council will operate under the provisions of FACA and will report to the Secretary of Agriculture through the Chief of the Forest Service.

The purpose of the Council is to advise and make recommendations to the Secretary of Agriculture, through the Chief of the Forest Service, on matters relating to the Pacific Northwest National Scenic Trail in accordance with Section 5(d) of the Act, which states,

The Secretary charged with the administration of each respective trail shall, within one year of the date of the addition of any national scenic or national historic trail to the system, . . . . . establish an advisory council for each such trail, each of which councils shall expire ten years from the date of its establishment, . . . . . . If the appropriate Secretary is unable to establish such an advisory council because of the lack of adequate public interest, the Secretary shall so advise the appropriate committees of the Congress. The appropriate Secretary shall consult with such council from time to time with respect to matters relating to the trail, including the selection of rights-of-way, standards for the erection and maintenance of markers along the trail, and the administration of the trail. . . . .

Advisory Council Organization

The Council will be comprised of approximately of 20 members. The members appointed to the Council will provide a fairly balanced and broad representation of all public interests. Members shall be appointed by the Secretary of Agriculture as follows: the Regional Forester of the Pacific Northwest Region, Forest Service, or a designee; the Regional Forester of the Northern Region, Forest Service, or a designee; the Regional Director of the Pacific West or Intermountain Regions, National Park Service, or a designee; a representative of the State of Montana (selected from recommendations by the Governor); a representative of the State of Idaho (selected from recommendations by the Governor); a representative of the State of Washington (selected from recommendation by the Governor); at least one representative for Tribal governments with an interest in the Trail or the areas through which it passes; at least one representative of a nationally recognized trails organization; at least one representative of a regionally recognized trails organization; at least one representative of outdoor recreation (hiking); at least one representative of outdoor recreation (pack and saddle stock); at least one representative of a nationally or regionally recognized environmental organization; at least one representative of archaeological and historical interests; at least one representative of a nationally or regionally recognized wildlife organization; at least one representative of the timber industry; at least one representative of the tourism industry and/or commercial outfitter interests; at least one representative of environmental education interests; at least one representative of youth engagement and employment interests; and at least one representative of private landowner interests.

No individual who is currently registered as a Federal lobbyist is eligible to serve as a member of the Council.

The Council will meet at least once annually or as often as necessary and at such times as designated by the Designated Federal Official (DFO).

The appointment of members to the Council will be made by the Secretary of Agriculture. Any individual or organization may nominate one or more qualified persons to serve on the Pacific Northwest National Scenic Trail Advisory Council. Individuals may also nominate themselves. To be considered for membership, nominees must submit:

1. Resume describing qualification for membership to the Council;

2. Cover letter with a rationale for serving on the Council and what they can contribute; and

3. Complete form AD-755, Advisory Committee Membership Background Information.

Letters of recommendations are welcome. All nominations will be vetted by the United States Department of the Agriculture (USDA). The Secretary of Agriculture will appoint members to the Pacific Northwest National Scenic Trail Advisory Council from the list of qualified applicants.

The non-Federal and non-Independent Agency members of the Council will serve without compensation, but may be reimbursed for travel expenses while performing duties on behalf of the Council, subject to approval by the DFO.

Equal opportunity practices in accordance with USDA policies shall be followed in all appointments to the Council. To help ensure that recommendations of the committee take into account the needs of the diverse groups served by USDA, membership shall include, to the extent possible, individuals with demonstrated ability to represent women, men, racial and ethnic groups, and persons with disabilities.

Dated: April 2, 2014.
Gregory Parham,
Assistant Secretary for Administration.

[FR Doc. 2014-08468 Filed 4-14-14; 8:45 am]

BILLING CODE 3411-15-P